DEPARTMENT OF ENERGY

Federal Energy Regulatory Commission

[Docket No. EG01-218-000-000, et al.]

Biomasse Italia S.p.A., et al.; Electric Rate and Corporate Regulation Filings

May 29, 2001.

Take notice that the following filings have been made with the Commission:

1. Biomasse Italia S.p.A.

[Docket No. EG01-218-000]

Take notice that on May 23, 2001, Biomasse Italia S.p.A. (Biomasse Italia) with its principal office at Corso d'Italia 19, Rome 00198, Italy filed with the Federal Energy Regulatory Commission (Commission) an application for determination of exempt wholesale generator status pursuant to Part 365 of the Commission's regulations.

Biomasse Italia is a company organized under the laws of Italy. Biomasse Italia will be engaged, directly or indirectly through an affiliate as defined in Section 2(a)(11)(B) of the Public Utility Holding Company Act of 1935, exclusively in owning, or both owning and operating an electric generating facility consisting of a 20 MW Power Plant in Crotone, Italy; selling electric energy at wholesale and engaging in project development activities with respect thereto.

Comment date: June 19, 2001, in accordance with Standard Paragraph E at the end of this notice. The Commission will limit its consideration of comments to those that concern the adequacy or accuracy of the application.

2. Rail Energy of Montana, LLC

[Docket No. ER01-1557-001]

Take notice that on May 23, 2001, Rail Energy of Montana (REM), a Montana limited liability company, tendered for filing to accept an amendment to its petition for acceptance of Rail Energy of Montana Rate Schedule FERC No. 1; the granting of certain blanket approvals, including the authority to sell electricity at market-based rates; waiver of certain Commission regulations; and waiver of notice requirement.

REM intends to engage in wholesale electric energy and capacity sales. REM is owned by Commercial Energy of Montana and Montana Rail Link.

Comment date: June 13, 2001, in accordance with Standard Paragraph E at the end of this notice.

3. Florida Keys Electric Cooperative Association, Inc.

[Docket No. ER01-1590-001]

Take notice that on May 23, 2001, Florida Keys Electric Cooperative Association, Inc. (FKEC) tendered for filing a compliance filing consisting of FKEC's First Revised FERC Rate Schedule No. 1 containing a new non-firm transmission rate applicable to the City Electric System, Key West, Florida for the period April 1, 2001 through March 31, 2002. This non-firm transmission rate was approved by the Commission effective April 1, 2001 conditioned on this compliance filing designating such agreement under Order No. 614.

Comment date: June 13, 2001, in accordance with Standard Paragraph E at the end of this notice.

4. Neptune Regional Transmission System LLC

[Docket No. ER01-2099-000]

Take notice that on May 23, 2001, Neptune Regional Transmission System LLC (Neptune) tendered for filing its FERC Electric Tariff Original Volume No. 1 in the above-referenced proceeding. This Tariff is intended to provide for the open access transmission of power at rates established pursuant to negotiations and open seasons, in accordance with procedures detailed in the Tariff. Neptune states that it believes that it can place the initial New Jersey to Long Island and New York capacity into service by the summer of 2003 if it receives its approvals in time.

Neptune therefore requests that the Commission issue its approval no later than August 1, 2001 so that the initial open season can commence on September 10, 2001.

Comment date: June 13, 2001, in accordance with Standard Paragraph E at the end of this notice.

5. Delano Energy Company, Inc.

[Docket No. ER01-2100-000]

Take notice that on May 23, 2001, Delano Energy Company, Inc. (Delano) tendered for filing amendments to Delano's electric rate schedule No. 1 to reflect its pending affiliation with AES Corp. and its franchised public utility subsidiaries. Delano requests waiver of any notice requirements to the extent required.

Comment date: June 13, 2001, in accordance with Standard Paragraph E at the end of this notice.

6. PJM Interconnection, L.L.C.

[Docket No. ER01-2101-000]

Take notice that on May 23, 2001, PJM Interconnection, L.L.C. (PJM), tendered for filing (i) an executed agreement for firm point-to-point transmission service with Calpine Energy Services, L.P. (Calpine); and (ii) an executed agreement for non-firm point-to-point transmission service with Calpine.

Copies of this filing were served upon Calpine and the state commissions within the PJM control area.

Comment date: June 13, 2001, in accordance with Standard Paragraph E at the end of this notice.

7. Progress Energy, Inc., Carolina Power & Light Company

[Docket No. ER01-2102-000]

Take notice that on May 23, 2001, Carolina Power & Light Company (CP&L) tendered for filing Service Agreements for Short-Term Firm and Non-Firm Point-to-Point Transmission Service with Axia Energy, LP. Service to this Eligible Customer will be in accordance with the terms and conditions of the Open Access Transmission Tariff filed on behalf of CP&L.

CP&L is requesting an effective date of May 10, 2001 for the Service Agreements.

Copies of the filing were served upon the North Carolina Utilities Commission and the South Carolina Public Service Commission.

Comment date: June 13, 2001, in accordance with Standard Paragraph E at the end of this notice.

8. Enron Power Marketing, Inc.

[Docket No. ER01-2103-000]

Take notice that on May 22, 2001, Enron Power Marketing, Inc. (EPMI), tendered for filing a Fourth Revised Rate Schedule FERC No. 1. The proposed revisions will permit EPMI to make purchases from and sales to EPMI's affiliate, Portland General Company, through the EnronOnline trading platform.

EPMI requests waiver of the 60 day prior notice period and a July 1, 2001 effective date.

Comment date: June 12, 2001, in accordance with Standard Paragraph E at the end of this notice.

9. PJM Interconnection, L.L.C.

[Docket No. ER01-2105-000]

Take notice that on May 23, 2001, PJM Interconnection, L.L.C. (PJM) tendered for filing an amendment to section 1.49 of the Amended and Restated Operating Agreement of PJM Interconnection, L.L.C. (Operating Agreement). The proposed amendment clarifies the definition of the term Weighted Interest.

Copies of this filing were served upon all PJM members, and each state electric utility regulatory commission within the PJM control area.

Comment date: June 13, 2001, in accordance with Standard Paragraph E at the end of this notice.

10. Entergy Services, Inc.

[Docket No. ER01-2107-000]

Take notice that on May 22, 2001, Entergy Services, Inc. (Entergy Services), on behalf of Entergy Arkansas, Inc., Entergy Gulf States, Inc., Entergy Louisiana, Inc., Entergy Mississippi, Inc., and Entergy New Orleans, Inc., tendered for filing six copies of the Power and Energy Service Agreement, Firm Power and Energy Service Agreement, and Peaking Power and Energy Service Agreement between Entergy Services and the Municipal Energy Agency of Mississippi.

Comment date: June 12, 2001, in accordance with Standard Paragraph E at the end of this notice.

11. ISO New England Inc.

[Docket No. ER01-2115-000]

Take notice that on May 22, 2001, the New England Power Pool (NEPOOL) tendered for an informational filing concerning proposed changes to the NEPOOL arrangements that would adopt for New England a standard market design (SMD) for a congestion management system (CMS) and multi-settlement system (MSS) with a request that the Commission issue an order by July 31, 2001 approving the expeditious development of SMD to replace those provisions of the Commission-ordered CMS/MSS for New England that would be changed by SMD. The SMD would be modeled largely after the market design of PJM Interconnection, L.L.C.

The NEPOOL Participants Committee states that copies of these materials were sent to all persons on the services list in these proceedings, the NEPOOL Participants and the New England state governors and regulatory commissions.

Comment date: June 12, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14065 Filed 6-4-01; 8:45 am]

BILLING CODE 6717-01-P